DEPARTMENT OF TRANSPORTATION

Federal Motor Carrier Safety Administration

[Docket No. FMCSA-2014-0107; FMCSA-2014-0385; FMCSA-2014-0386; FMCSA-2021-0014; FMCSA-2018-0135; FMCSA-2018-0138]

Qualification of Drivers; Exemption Applications; Hearing

AGENCY: Federal Motor Carrier Safety Administration (FMCSA), Department of Transportation (DOT).

ACTION: Notice of renewal of exemptions; correction.

SUMMARY: In a notice of renewal of exemptions published in the Federal Register on September 6, 2023, FMCSA announced its decision to renew exemptions for eight individuals from the hearing requirement in the Federal Motor Carrier Safety Regulations (FMCSRs) for interstate commercial motor vehicle (CMV) drivers. The exemptions enable these hard of hearing and deaf individuals to continue to operate CMVs in interstate commerce. The notice inadvertently published an individual's legal name incorrectly. This notice corrects that error.

DATES: This correction is effective September 6, 2023. Comments on the notice must still be received on or before October 5, 2023.

FOR FURTHER INFORMATION CONTACT: Ms. Christine A. Hydock, Chief, Medical Programs Division, FMCSA, DOT, 1200 New Jersey Avenue SE, Room W64-224, Washington, DC 20590-0001, (202) 366-4001, fmcsamedical@dot.gov. Office hours are from 8:30 a.m. to 5 p.m. ET Monday through Friday, except Federal holidays. If you have questions regarding viewing materials in the docket, contact Dockets Operations, (202) 366-9826.

SUPPLEMENTARY INFORMATION:

Correction

On September 6, 2023, FMCSA published a notice of renewal of exemptions (88 FR 60732) with an effective date of September 12, 2023, which FMCSA announced its decision to renew exemptions for eight individuals from the hearing requirement in the Federal Motor Carrier Safety Regulations (FMCSRs) for interstate CMV drivers. The notice inadvertently published Alex Courtney O'Donnell Bertling's legal name incorrectly. Through this notice, FMCSA corrects the September 6, 2023, notice of renewal of exemptions by correctly indicating Alex Courtney O'Donnell Bertling's legal name.¹

¹ The published version of the original notice is included in the docket for this correction.

In FR Doc. 2023-18993 appearing on page 60732 in the Federal Register of September 6, 2023, the following correction is made:

1. On page 60733, in the third column, “Courtney Bertling (OR)” is corrected to read “Alex Courtney O'Donnell Bertling (OR)”.

Issued under authority delegated in 49 CFR 1.87.
Larry W. Minor,
Associate Administrator for Policy.

[FR Doc. 2023-20152 Filed 9-18-23; 8:45 am]

BILLING CODE 4910-EX-P